DEPARTMENT OF COMMERCE

Foreign-Trade Zones Board

[Order No. 1214]

Expansion of Foreign-Trade Zone 110, Albuquerque, NM

Pursuant to its authority under the Foreign-Trade Zones Act of June 18, 1934, as amended (19 U.S.C. 81a-81u), the Foreign-Trade Zones Board (the Board) adopts the following Order:

Whereas, the City of Albuquerque, New Mexico, grantee of Foreign-Trade Zone 110, submitted an application to the Board for authority to expand and relocate FTZ 110 from its current location in Albuquerque, to a site (62 acres) at the 2,300-acre Albuquerque International Sunport airport complex, within the Albuquerque Customs port of entry area (FTZ Docket 28-2001; filed 6/28/01);

Whereas, notice inviting public comment was given in the Federal Register (66 FR 35593, 7/6/01) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand FTZ 110 is approved, subject to the Act and the Board's regulations, including Section 400.28.

Signed at Washington, DC, this 29th day of March 2002.
Faryar Shirzad,
Assistant Secretary of Commerce for Import Administration, Alternate Chairman, Foreign-Trade Zones Board.

Dennis Puccinelli,
Executive Secretary.

[FR Doc. 02-8561 Filed 4-8-02; 8:45 am]

BILLING CODE 3510-DS-P